FEDERAL COMMUNICATIONS COMMISSION

47 CFR Part 73

[DA No. 02-60; MM Docket No. 01-298; RM-10298]

Radio Broadcasting Services; Camden, AL

AGENCY: Federal Communications Commission.

ACTION: Proposed rule; dismissal.

SUMMARY: This document dismisses a proposal filed by Charles Crawford requesting the allotment of Channel 280A at Camden, Alabama, as the community's second FM broadcast service. See 66 FR 53755, October 24, 2001. As stated in the document, a showing of continuing interest is required before a channel will be allotted. Since there has been no interest expressed for the allotment of a channel at Camden, the Report and Order dismisses the proposal.

FOR FURTHER INFORMATION CONTACT: Kathleen Scheuerle, Mass Media Bureau, (202) 418-2180

SUPPLEMENTARY INFORMATION: This is a summary of the Commission's Report and Order, MM Docket No. 01-298, adopted January 2, 2002, and released January 11, 2002. The full text of this Commission decision is available for inspection and copying during regular business hours in the FCC Reference Information Center, Portals II, 445 12th Street, SW., Room CY-A257, Washington, DC 20554. The complete text of this decision may also be purchased from the Commission's duplicating contractor, Qualex international, Portals II, 445 12th Street, SW., Room CY-B402, Washington, DC 20554, telephone 202-863-2893, facsimile 202-863-2898, or via e-mail qualexint@aol.com.

Federal Communications Commission.
John A. Karousos,
Chief, Allocations Branch, Policy and Rules Division, Mass Media Bureau.

[FR Doc. 02-2437 Filed 1-31-02; 8:45 am]

BILLING CODE 6712-01-P